DEPARTMENT OF HEALTH AND HUMAN SERVICES

Centers for Disease Control and Prevention

[30Day-13-0739]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7570 or send an email to omb@cdc.gov. Send written comments to CDC Desk Officer, Office of Management and Budget, Washington, DC or by fax to (202) 395-5806. Written comments should be received within 30 days of this notice.

Proposed Project

CDC Oral Health Management Information System (OMB No. 0920-0739, exp. 5/31/2013)—Extension—National Center for Chronic Disease Prevention and Public Health Promotion (NCDDPHP), Centers for Disease Control and Prevention (CDC).

Background and Brief Description

The CDC seeks to improve the oral health of the nation by targeting efforts to improve the infrastructure of state and territorial oral health departments, strengthen and enhance program capacity related to monitoring the population's oral health status and behaviors, develop effective programs to improve the oral health of children and adults, evaluate program accomplishments, and inform key stakeholders, including policy makers, of program results. Through a cooperative agreement program (Program Announcement DP08-802 and DP10-1012), CDC has provide approximately $5 million per year over five years to 20 states to strengthen their core oral health infrastructure and capacity. CDC funding also helps states reduce health disparities among high-risk populations including, but not limited to, those of lower SES, Hispanic, African American and other ethnic groups.

NCCDPHP is currently pursuing a key initiative to improve the efficiency and effectiveness of CDC project officers who oversee the state and territorial oral health programs. An electronic management information system (MIS) to support program management, consulting and evaluation has been developed in support of the cooperative agreement. The MIS provides a central repository of information, such as the plans of the state or territorial oral health programs (their goals, objectives, performance milestones and indicators), as well as state and territorial oral health performance activities including programmatic and financial information. State oral health programs have used the MIS to submit their required semi-annual reports to CDC (CDC Oral Health Management Information System, OMB No. 0920-0739, 5/31/2013). The last report under the current FOA is due on October 30, 2013.

CDC is requesting OMB approval to extend clearance for the MIS until December 31, 2013. Information will be reported to CDC once during this period. The extension will allow to CDC to receive final reports from the state oral health programs and to provide any technical assistance or follow-up support that may be needed to produce accurate final reports. There is no change to the estimated burden per response, which is 11 hours.

All information will be collected electronically. There are no costs to respondents other than their time. The total estimated annualized burden hours are 220.

Estimated Annualized Burden Hours
Type of respondents | Number of respondents | Number of responses per respondent | Average burden per response (in hours) | Total burden (in hours)
State Oral Health Programs | 20 | 1 | 11 | 220

Dated: February 28, 2013.
Ron A. Otten,
Director, Office of Scientific Integrity (OSI), Office of the Associate Director for Science (OADS), Office of the Director, Centers for Disease Control and Prevention.

[FR Doc. 2013-05518 Filed 3-8-13; 8:45 am]

BILLING CODE 4163-18-P